DEPARTMENT OF HEALTH AND HUMAN SERVICES

[Document Identifier: 4040-0018; 30-day Notice]

Agency Information Collection Request; 30-Day Public Comment Request, Grants.gov

AGENCY: Office of the Secretary, HHS.

In compliance with the requirement of section 3506(c)(2)(A) of the Paperwork Reduction Act of 1995, Grants.gov (EGOV), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, to Ed.Calimag@hhs.gov, or call the Reports Clearance Office on (202) 690-7569. Send written comments and recommendations for the proposed information collections within 30 days of this notice directly to the Grants.gov.

Proposed Project:

SF-428 Tangible Personal Property Report.

Reinstatement without change and 3 Year Extension and assignment as a Common Form.

OMB No.: 4040-0018.

Office: Grants.gov.

Abstract: Reporting on the status of Federally owned property, including disposition, is necessitated in 2 CFR part 215, the “Uniform Administrative Requirements for Grants and Agreements with Institutions of Higher Education, Hospitals, and Other Non-Profit Organizations”, and the “Uniform Administrative Requirements for Grants and Agreements with State and Local Governments”, Additionally, Public Law 106-107, the Federal Financial Assistance Management Improvement Act requires that agencies ”simplify Federal financial assistance application and reporting requirements.” 31 U.S.C. 6101, Section 3.

Agencies are currently using a variety of forms to account for both Federally owned and grantee owned equipment and property. During the public consultation process mandated by Public Law 106-107, grant recipients requested a standard form to help them submit appropriate property information when required. The Public Law 106-107 Post Awards Subgroup developed a new standard form, the Tangible Personal Property Report, for submission of the required data. The form consists of the cover sheet (SF-428), three attachments to be used as required: Annual Report, SF-428-A; Final Report, SF-428-B; Disposition Request/Report, SF-428-C and a Supplemental Sheet, SF-428S to provide detailed individual item information when required. We are requesting a three-year clearance of this collection and that it be designated as a Common Form.

Total Estimated Annualized Burden Hours
Form name | Number of respondents | Number of responses per respondent | Average burden per response (in hours) | Total burden hours
SF-428 Tangible Personal Property Report | 2000 | 1 | 1 | 2000
Total | 2000 |  |  | 2000

Terry S. Clark,
Asst. Information Collection Clearance Officer.

[FR Doc. 2017-06142 Filed 3-28-17; 8:45 am]

BILLING CODE 4151-AE-P